DEPARTMENT OF HEALTH AND HUMAN SERVICES

National Institutes of Health

Eunice Kennedy Shriver National Institute of Child Health & Human Development; Cancellation of Meeting

Notice is hereby given of the cancellation of the National Children's Study Advisory Committee, July 11, 2014, 9:00 a.m. to July 11, 2014, 4:45 p.m., National Institutes of Health, Neuroscience Center, 6001 Executive Boulevard, Rockville, MD 20852 which was published in the Federal Register on June 16, 2014, 79 FR 34332.

The meeting of the National Children's Study Advisory Committee is cancelled for July 11, 2014, 9:00 a.m. to 4:45 p.m.

Dated: June 24, 2014.
Michelle Trout,
Program Analyst, Office of Federal Advisory Committee Policy.

[FR Doc. 2014-15296 Filed 6-30-14; 8:45 am]

BILLING CODE 4140-01-P